DEPARTMENT OF VETERANS AFFAIRS

Veterans' Disability Benefits Commission; Notice of Meeting

The Department of Veterans Affairs (VA) gives notice under Public Law 92-463 (Federal Advisory Committee Act) that the Veterans' Disability Benefits Commission has scheduled a southern regional town hall meeting on Tuesday, September 5, 2006, from 7 p.m. until 9 p.m., at the Marriott Atlanta Century Center, 2000 Century Boulevard, NE., Atlanta, GA. The meeting is open to the public.

The purpose of the Commission is to carry out a study of the benefits under the laws of the United States that are provided to compensate and assist veterans and their survivors for disabilities and deaths attributable to military service.

The Commission is conducting the final of eight fact-finding, data-gathering site visits throughout the United States. The Atlanta area was selected based on criteria that included the concentration of veterans, active-duty service members and National Guard and Reserves, and the location of Veterans Benefits Administration, Veterans Health Administration, and Department of Defense (DoD) facilities, with particular interest in transition activities. The goal of this visit is to allow the commissioners the opportunity to tour local VA and DoD facilities; examine the processes in place which assist disabled veterans and service members, and survivors in their efforts to obtain benefits and to present these individuals and the general public with an opportunity to learn about the work of the Commission and to offer comments in face-to-face forums.

Interested person may attend and present oral statements to the Commission. Time for each oral presentation will be limited to five minutes or less, depending on the number of participants. Interested parties may provide written comments for review by the Commission prior the meeting, by e-mail to: veterans@vetscommission.intranets.com or by mail to: Mr. Ray Wilburn, Executive Director, Veterans' Disability Benefits Commission, 1101 Pennsylvania Avenue, NW., 5th Floor, Washington, DC 20004.

Dated: August 11, 2006.
By Direction of the Secretary.
E. Philip Riggin,
Committee Management Officer.

[FR Doc. 06-6991 Filed 8-17-06; 8:45 am]

BILLING CODE 8320-01-M